FEDERAL MARITIME COMMISSION

Ocean Transportation Intermediary License Applicants

Notice is hereby given that the following applicants have filed with the Federal Maritime Commission an application for a license as a Non-Vessel-Operating Common Carrier (NVO) and/or Ocean Freight Forwarder (OFF)—Ocean Transportation Intermediary (OTI) pursuant to section 19 of the Shipping Act of 1984 as amended (46 U.S.C. Chapter 409 and 46 CFR 515). Notice is also hereby given of the filing of applications to amend an existing OTI license or the Qualifying Individual (QI) for a license.

Interested persons may contact the Office of Transportation Intermediaries, Federal Maritime Commission, Washington, DC 20573.

A & J Cargo Logistics Inc. (OFF), 8245 NW. 36th Street, #5, Miami, FL 33166. Officers: Jose L. Iglesias, President, (Qualifying Individual), Alice Iglesias, Secretary. Application Type: New OFF License.

Alaska Seavan, Inc. dba Mitchell Moving & Storage (OFF), 18800 Southcenter Parkway, Seattle, WA 98188. Officer: Charles K. Behrens, President, (Qualifying Individual), Todd L. Halverson, CEO. Application Type: New NVO License.

American Lamprecht Transport, Inc. (NVO & OFF), 700 Rockaway Turnpike, #303A, Lawrence, NY 11559. Officers: Alain Tiercy, CFO/Secretary/Treasurer, (Qualifying Individual), Hans-Peter Widmer, President. Application Type: QI Change.

Americas Cargo Express, Inc. (NVO), 2704 Temple Avenue, Long Beach, CA 90806. Officers: Jose J. Castano, Sr., President, (Qualifying Individual), Evangeline A. Castano, Vice President. Application Type: Business Structure Change.

Bellville Rodair International Inc. (NVO & OFF), 105 Fieldcrest Avenue, Suite 205, Edison, NJ 08837-3628. Officers: Chris Matthews, Vice President, (Qualifying Individual), Jeffrey Cullen, President. Application Type: QI Change.

Cala Distribution, LLC (NVO), 2705 NW. 109 Avenue, Miami, FL 33172. Officers: Pedro Salcedo, Manager, (Qualifying Individual), E. Bensadon, Manager. Application Type: License Transfer.

CTC Logistics (L.A.) Inc. (NVO), 5250 W. Century Blvd., Suite 660, Los Angeles, CA 90045. Officers: Ruonan Mowia, Secretary, (Qualifying Individual), Yon L. Li, President. Application Type: QI Change.

Dart Global Logistics Inc. dba Dart Global Logistics (NVO), 147-60 175th, 2nd Floor, Jamaica, NY 11434. Officers: Ananda L. Jayasekara, COO/Managing Director, (Qualifying Individual), Charles Wijesundera, President/CEO. Application Type: Name Change.

Dawn Freight, Inc. (NVO & OFF), 4430 NW. 74th Avenue, Miami, FL 33166. Officers: Alba L. Gallo, President/Secretary, (Qualifying Individual), Gustavo Gallo, Vice President. Application Type: Add NVO Service.

Efreightsolutions LLC (NVO), 5021 Statesman Drive, Suite 200, Irving, TX 75063. Officers: Stephen T. Russ, Assistant Secretary, (Qualifying Individual), William S. Askew, Manager. Application Type: New NVO License.

Encar Trading, Corp. (NVO), 8556 NW. 64th Street, Miami, FL 33166. Officer: Carlos Cardona, President (Qualifying Individual). Application Type: New NVO License.

F.L. Investment Group, Inc. dba Quivas Cargo Express (NVO), 4101 Alverado Street, Orlando, FL 32812. Officers: Tanya Quiroz, Treasurer/Secretary, (Qualifying Individual), Eddy A. Quiroz, President. Application Type: New NVO License.

FPS Logistic (USA) Inc. dba Famous Pacific Lines dba Famous Container Lines (NVO), 879 W. 190th Street, #905, Gardena, CA 90248. Officer: Quincy H. Tan, President/CEO/CFO/Secretary. Application Type: Trade Name Change.

G & G Auto Sales dba W8Shipping (OFF), 140 Aviation Court, Savannah, GA 33133. Officers: Darius Ziulpa, Member/Manager, (Qualifying Individual), Gedeminas Garmus, Member/Manager. Application Type: New OFF License.

J & S Transportation, LLC. (OFF), 380 South Union Street, Lawrence, MA 01843. Officer: Samson Eboigbe, Manager, (Qualifying Individual). Application Type: New OFF License.

New Vista International LLC (NVO & OFF), 14939 Sugar Mist Lane, Sugar Land, TX 77498. Officer: Susan S. Tao, President, (Qualifying Individual). Application Type: New NVO & OFF License.

OC International Freight, Inc. (NVO & OFF), 4458 NW. 74th Avenue, Miami, FL 33166. Officer: Omar Collado, President/Secretary, (Qualifying Individual). Application Type: New NVO & OFF License.

Ocean Link Forwarding, Inc. (OFF), 582 W. Huntington Drive, #M, Arcadia, CA 91007. Officers: Wei Jiang, President/CFO, (Qualifying Individual), Peixin Li, Vice President/Secretary. Application Type: New OFF License.

Ochi Logistics Inc. (NVO), 68-30 Burns Street, #F3, Forest Hills, NY 11375. Officer: Shiro Ochi, President/Secretary/Treasurer, (Qualifying Individual). Application Type: New NVO License.

Ryan Global Logistics, Corp. (NVO), 16801 Gale Avenue, Suite D, City of Industry, CA 91745. Officer: Leslie W. Fung, CEO/CFO/Secretary, (Qualifying Individual). Application Type: New NVO License.

Swan Container Line L.L.C. (NVO), 627 Summit Avenue, Jersey City, NJ 07306. Officers: Fawwad Mohammad, Operations Manager, (Qualifying Individual), Magued Abdallah, Managing Partner. Application Type: New NVO License.

TDS Logistics LLC (NVO & OFF), 10102 Cedar Creek, Houston, TX 77042. Officers: Reina G. Louden, Vice President, (Qualifying Individual), Timothy B. Tarrilion, President. Application Type: New NVO & OFF License.

Tito Global Trade Services USA LLC (NVO & OFF), 1315 NW. 98th Court, Miami, FL 33172. Officers: Victor Blanco, Manager, (Qualifying Individual), Luiz F. Bermudez, Managing Manager. Application Type: New NVO & OFF License.

Transouth Marine Cargo, LLC (NVO & OFF), 2190 NW. 2nd Street, Miami, FL 33125. Officer: Roberto Ruiz, Manager, (Qualifying Individual). Application Type: New NVO & OFF License.

Dated: December 17, 2010.
Karen V. Gregory,
Secretary.

[FR Doc. 2010-32169 Filed 12-21-10; 8:45 am]

BILLING CODE 6730-01-P